DEPARTMENT OF THE INTERIOR

National Park Service

[N6766; NPS-WASO-NAGPRA-NPS0041623; PPWOCRADN0-PCU00RP14.R50000]

Notice of Inventory Completion: Maidu Museum & Historic Site, Roseville, CA

AGENCY: National Park Service, Interior.

ACTION: Notice.

SUMMARY: In accordance with the Native American Graves Protection and Repatriation Act (NAGPRA), the Maidu Museum & Historic Site has completed an inventory of associated funerary objects and has determined that there is a cultural affiliation between the associated funerary objects and Indian Tribes or Native Hawaiian organizations in this notice.

DATES: Repatriation of the associated funerary objects in this notice may occur on or after January 20, 2026.

ADDRESSES: Send written requests for repatriation of the associated funerary objects in this notice to Alesha Martinez, Senior Museum Specialist, Maidu Museum & Historic Site, 1970 Johnson Ranch Drive, Roseville, CA 95661, email ammartinez@roseville.ca.us.

SUPPLEMENTARY INFORMATION: This notice is published as part of the National Park Service's administrative responsibilities under NAGPRA. The determinations in this notice are the sole responsibility of the Maidu Museum & Historic Site, and additional information on the determinations in this notice, including the results of consultation, can be found in its inventory or related records. The National Park Service is not responsible for the determinations in this notice.

Abstract of Information Available

Associated funerary objects have been reasonably identified from CA-PLA-142 in Placer County, CA. The two lots of associated funerary objects are one lot of modified stones and one lot of faunal material. The associated funerary objects were accessioned at the Maidu Museum & Historic Site under Accession Numbers 2001.001 and 2001.003.

Associated funerary objects have been reasonably identified from multiple burial sites near the Maidu Museum & Historic Site, including the known sites CA-PLA-38, CA-PLA-85, and CA-PLA-87, as well as additional unidentified sites in the vicinity. The six lots of associated funerary objects are one lot of faunal material, one lot of modified stone, one lot of unmodified stone, one lot of plant material, one lot of shell, and one lot of historical material. The associated funerary objects were accessioned at the Maidu Museum & Historic Site under Accession Numbers 2000.000, 2000.001, 2001.000, 2001.001, 2001.012, 2002.000, and 2006.012.

The Maidu Museum & Historic Site does not have records of any known potentially hazardous substances used to treat any of the cultural items.

Cultural Affiliation

Based on the information available and the results of consultation, cultural affiliation is reasonably identified by the geographical location or acquisition history of the associated funerary objects described in this notice.

Determinations

The Maidu Museum & Historic Site has determined that:

• The eight lots of objects described in this notice are reasonably believed to have been placed intentionally with or near individual human remains at the time of death or later as part of the death rite or ceremony.

• There is a connection between the associated funerary objects described in this notice and the Shingle Springs Band of Miwok Indians, Shingle Springs Rancheria (Verona Tract), California and the United Auburn Indian Community of the Auburn Rancheria of California.

Requests for Repatriation

Written requests for repatriation of the associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the associated funerary objects described in this notice to a requestor may occur on or after January 20, 2026. If competing requests for repatriation are received, the Maidu Museum & Historic Site must determine the most appropriate requestor prior to repatriation. Requests for joint repatriation of the associated funerary objects are considered a single request and not competing requests. The Maidu Museum & Historic Site is responsible for sending a copy of this notice to the Indian Tribes and Native Hawaiian organizations identified in this notice and any other consulting parties.

Authority: Native American Graves Protection and Repatriation Act, 25 U.S.C. 3003, and the implementing regulations, 43 CFR 10.10.

Dated: December 11, 2025.
Melanie O'Brien,
Manager, National NAGPRA Program.

[FR Doc. 2025-23360 Filed 12-18-25; 8:45 am]

BILLING CODE 4312-52-P